DEPARTMENT OF ENERGY

Federal Energy Regulatory Commission

[Project No. 15110-000]

Littoral Power Systems, Inc.; Notice of Application for Amendment of Preliminary Permit Accepted for Filing and Soliciting Comments, Motions To Intervene, and Protests

On June 7, 2024, Littoral Power Systems, Inc. filed a request to amend its preliminary permit issued June 1, 2021, for the Kootznahoo Inlet Tidal Power Project. The proposed project would be located near the City of Angoon, in Hoonah-Angoon Borough, Alaska.

During its current permit term, Littoral Power Systems has conducted studies and surveys of the project area and has identified additional areas of interest outside of the approved project boundary. Littoral Power Systems requests an amendment to its existing permit to revise the project boundary to include the newly identified areas. The additional areas would increase the current project boundary by approximately 0.4 square miles.

Applicant Contact: Stephen Barrett, 1596 Main Street, Concord, Massachusetts 01742; phone: (339) 234-2696; email: steve@barrettenergygroup.com.

FERC Contact: Ryan Hansen; phone: (202) 502-8074; email: ryan.hansen@ferc.gov.

Deadline for filing comments, motions to intervene, competing applications (without notices of intent), or notices of intent to file competing applications: 30 days from the issuance of this notice.

The Commission strongly encourages electronic filing. Please file all documents using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov. In lieu of electronic filing, you may submit a paper request. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852.

More information about this project, including a copy of the amendment application, can be viewed or printed on the “eLibrary” link of Commission's website at http://www.ferc.gov/docs-filing/elibrary.asp. Enter the docket number (P-15110) in the docket number field to access the document. For assistance, contact FERC Online Support.

Dated: June 11, 2024.
Debbie-Anne A. Reese,
Acting Secretary.

[FR Doc. 2024-13287 Filed 6-14-24; 8:45 am]

BILLING CODE 6717-01-P